NUCLEAR REGULATORY COMMISSION

Advisory Committee on Reactor Safeguards (ACRS); Meeting of the ACRS Subcommittee on Planning and Procedures; Cancellation of the June 8, 2016, ACRS Subcommittee Meeting

The ACRS Subcommittee meeting on Planning and Procedures scheduled for June 8, 2016, 12:00 p.m. until 1:00 p.m., has been cancelled.

The notice of this meeting was previously published in the Federal Register on Tuesday, May 23, 2016, (81 FR 32355).

Information regarding this meeting can be obtained by contacting Quynh Nguyen, Designated Federal Official (DFO) (Telephone 301-415-5844 or Email: Quynh.Nguyen@nrc.gov) between 7:30 a.m. and 5:15 p.m. (EST)).

Dated: May 24, 2016.
Mark L. Banks,
Chief, Technical Support Branch, Advisory Committee on Reactor Safeguards.

[FR Doc. 2016-12920 Filed 5-31-16; 8:45 am]

BILLING CODE 7590-01-P